DEPARTMENT OF DEFENSE

Department of the Army

[Docket ID: USA-2021-HQ-0004]

Proposed Collection; Comment Request

AGENCY: Office of the Surgeon General, United States Medical Command (MEDCOM), Department of Defense (DoD).

ACTION: Information collection notice.

SUMMARY: In compliance with the Paperwork Reduction Act of 1995, the Office of the Surgeon General, United States Medical Command (MEDCOM) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Army Public Health Center, Health Promotion and Wellness Directorate, Public Health Assessment Program, 5158 Blackhawk Road, Building E-1570, Aberdeen Proving Ground, MD 21010-5403, ATTN: Dr. Theresa Jackson Santo, 410-417-2844, or email usarmy.apg.medcom-phc.mbx.hpw-webcontacts@mail.mil.

SUPPLEMENTARY INFORMATION: Title; Associated Form; and OMB Number: Heart of Recovery—Military Caregiver Needs Assessment; OMB Control Number 0702-0143.

Needs and Uses: The information collection requirement is necessary to support the formation of the United States Army Office of the Surgeon General Military Caregivers Program: Heart of Recovery.

Affected Public: Individuals or Households.

Annual Burden Hours: 2,500.

Number of Respondents: 5,000.

Responses per Respondent: 1.

Annual Responses: 5,000.

Average Burden per Response: 30 minutes.

Frequency: On occasion.

This needs assessment seeks to identify the type(s) of support provided by caregivers; determine the level of burden experience by providing caregiver support; identify the health status of the caregiver population; determine services needed to provide caregiver support; and assess the need for caregiver support training. Respondents are military and/or civilian caregivers who provide unpaid care and assistance for, or manage the care of, someone who is an active-duty military member, Army National Guard, Army Reserve, or veteran that has been diagnosed with a service connected illness, injury, or impairment for which they require outside support. Data will be collected initially through an electronic questionnaire, followed by individual interviews conducted either in-person or telephonically. “Outside support” may include help with tasks such as personal care, bathing, dressing, feeding, giving medicines or treatments, help with memory tasks for those identified with brain trauma, assistance in coping with symptoms of post-traumatic stress disorder (PTSD), transportation to doctors' appointments, or arranging for services. Caregivers are not required to be domiciled with the patient receiving care to be eligible for this study. Care and assistance are considered unpaid if they provide care or assistance without the receipt (or expectation of) financial compensation. Compiling, analyzing, and understanding the responses of the various perspectives of patient care is necessary to set a baseline of care and identify core competencies, services, and support required for providers, patients and family members providing, accepting, or supporting injured Army members.

Dated: March 12, 2021.
Aaron T. Siegel,
Alternate OSD Federal Register Liaison Officer, Department of Defense.

[FR Doc. 2021-05579 Filed 3-17-21; 8:45 am]

BILLING CODE 5001-06-P